DEPARTMENT OF TRANSPORTATION

Federal Aviation Administration

14 CFR Part 39

[Docket No. FAA-2024-1895; Project Identifier MCAI-2023-01240-T; Amendment 39-23168; AD 2025-20-15]

RIN 2120-AA64

Airworthiness Directives; Airbus SAS Airplanes

AGENCY: Federal Aviation Administration (FAA), DOT.

ACTION: Final rule.

SUMMARY: The FAA is superseding Airworthiness Directive (AD) 2022-08-08, which applied to certain Airbus SAS Model A318 series airplanes; Model A319-111, -112, -113, -114, -115, -131, -132, and -133 airplanes; Model A320-211, -212, -214, -216, -231, -232, and -233 airplanes; and Model A321-111, -112, -131, -211, -212, -213, -231, and -232 airplanes. AD 2022-08-08 required repetitive special detailed inspections of certain double joggle areas on the fuselage and applicable on-condition actions. Since the FAA issued AD 2022-08-08, it was determined that additional airplane models are subject to the unsafe condition and additional requirements are necessary for airplanes repaired after accomplishment of certain airworthiness limitations item (ALI) tasks. This AD continues to require the actions in AD 2022-08-08. This AD also adds airplane models to the applicability and additional requirements for certain airplanes. The FAA is issuing this AD to address the unsafe condition on these products.

DATES: This AD is effective January 2, 2026. The Director of the Federal Register approved the incorporation by reference of a certain publication listed in this AD as of January 2, 2026.

ADDRESSES:

AD Docket: You may examine the AD docket at regulations.gov under Docket No. FAA-2024-1895; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available at regulations.gov under Docket No. FAA-2024-1895.

FOR FURTHER INFORMATION CONTACT: Timothy Dowling, Aviation Safety Engineer, FAA, 2200 South 216th St., Des Moines, WA 98198; phone: 206-231-3667; email: Timothy.P.Dowling@faa.gov.

SUPPLEMENTARY INFORMATION:

Background

The FAA issued a notice of proposed rulemaking (NPRM) to amend 14 CFR part 39 to supersede AD 2022-08-08, Amendment 39-22011 (87 FR 23755, April 21, 2022) (AD 2022-08-08). AD 2022-08-08 applied to certain Airbus SAS Model A318 series airplanes; Model A319-111, -112, -113, -114, -115, -131, -132, and -133 airplanes; Model A320-211, -212, -214, -216, -231, -232, and -233 airplanes; and Model A321-111, -112, -131, -211, -212, -213, -231, and -232 airplanes. AD 2022-08-08 required repetitive special detailed inspections of certain areas and applicable on-condition actions. The FAA issued AD 2022-08-08 to address cracks in the double joggle areas at frame (FR) 16 and FR20, right-hand and left-hand sides, which, if not detected and corrected, could reduce the structural integrity of the fuselage.

The NPRM was published in the Federal Register on July 24, 2024 (89 FR 59857). The NPRM was prompted by AD 2023-0212, dated December 6, 2023 (EASA AD 2023-0212), issued by EASA, which is the Technical Agent for the Member States of the European Union. EASA AD 2023-0212 states that the unsafe condition may also exist on Airbus SAS A318/A320/A321 “NEO” airplanes (i.e., Airbus SAS Model A318-151N, -153N, and -171N; A320-251N, -252N, -253N, -271N, -272N, and -273N; and A321-251N, -251NX, -252N, -252NX, -253N, -253NX, -271N, -271NX, -272N, and -272NX airplanes), so these airplanes are added to the applicability. In addition, Airbus has developed additional, new structural repair manual (SRM) tasks that are considered additional alternative methods to the Airbus repair designs originally required by EASA AD 2021-0227, dated October 11, 2021, for the airplanes affected by that AD.

In the NPRM, the FAA proposed to continue to require the actions in AD 2022-08-08 and add NEO airplane models to the applicability, as specified in EASA AD 2023-0212.

The FAA issued a supplemental notice of proposed rulemaking (SNPRM) to amend 14 CFR part 39 to supersede AD 2022-08-08. The SNPRM was published in the Federal Register on February 18, 2025 (90 FR 9695). The SNPRM was prompted EASA AD 2024-0217, dated November 18, 2024 (EASA AD 2024-0217) (also referred to as “the MCAI”), which superseded EASA AD 2023-0212. Since EASA AD 2023-0212 was issued, it was determined that AD-mandated repetitive inspections were incorrectly terminated for all the Airbus repair instructions; only those in which the termination of the AD-mandated inspections was explicitly written in the Airbus-approved instructions should have been terminated. Therefore, additional requirements are necessary for airplanes that have been repaired after accomplishment of ALI tasks 531153-02 or 531155-02.

In the SNPRM, the FAA revised the NPRM by adding additional requirements for airplanes that have been repaired after accomplishment of ALI task 531153-02 or 531155-02. The FAA is issuing this AD to address the unsafe condition on these products.

You may examine the MCAI in the AD docket at regulations.gov under Docket No. FAA-2024-1895.

Discussion of Final Airworthiness Directive

Comments

The FAA received comments from an individual who supported the SNPRM without change.

The FAA received additional comments from Delta Air Lines (Delta) and an individual. The following presents the comment received on the SNPRM and the FAA's response.

Request To Require Inspections Be Completed by the FAA

An individual requested that the FAA be required to inspect all affected airplanes to determine if there is significant damage. The individual also requested that any safety requirements of the proposed AD be repaired before further flight.

The FAA agrees to clarify. The actions required by this AD are the responsibility of operators. FAA regulations (14 CFR 43.3) stipulate who can perform maintenance on or alter an airplane on the U.S. registry, including inspections required by an AD. AD actions must be performed by people holding certain certificates or having specialized training that provides them the knowledge necessary to properly inspect and repair airplanes. In addition, this AD requires operators to address any cracks that are detected before further flight. The FAA has not revised the AD in this regard.

Request To Terminate Certain SRM Inspections

Delta requested that the FAA add an exception to paragraph (h) of the proposed AD to specify that the repetitive inspections in paragraph (1) of EASA AD 2024-0217 supersede the repetitive inspections in SRM task 53-11-12-205-008 or 53-11-12-205-007, as applicable. Delta stated that, if cracking is found, two of the service bulletins referenced in the Corrective Action(s) paragraph of EASA AD 2024-0217 specify to repair using SRM task 53-11-12-300-012 or 53-11-12-300-013, which in turn specify doing repetitive inspections per SRM task 53-11-12-205-008 or SRM task 53-11-12-205-007, respectively. Delta also stated that SRM tasks 53-11-12-205-008 and SRM task 53-11-12-205-007 do not specify that these repetitive inspections supersede, replace, or terminate the repetitive inspections in paragraph (1) of EASA AD 2024-0217. Delta asserted this results in duplicative repetitive inspections of the same area at different compliance times since accomplishing the corrective action also does not terminate the repetitive inspections in paragraph (1) of EASA AD 2024-0217.

The FAA agrees that the AD is not intended to require duplicative repetitive inspections. However, the FAA has determined that an exception is not necessary. This AD only requires the repetitive inspections to be done in accordance with paragraph (1) of the EASA AD except as specified in paragraph (7) of EASA AD 2024-0217. The provision in paragraph (7) of EASA 2024-0217 specifies “unless specified otherwise in the instructions provided by Airbus”, which applies to the statement in the material referenced in paragraph (1) of EASA AD 2024-0217 that states to repeat the inspection for the non-repaired hole(s). Therefore, paragraph (1) of EASA AD 2024-0217 does not require repetitive inspections of repaired holes at those locations. However, the repetitive post-repair inspections referenced in SRM tasks 53-11-12-205-008 and 53-11-12-205-007 may be required for compliance with paragraph (2) of EASA AD 2024-0217. The FAA has not revised the AD in this regard.

Additional Changes Made to This AD

In the SNPRM, the FAA stated that accomplishing the required actions would terminate ALI tasks 531153-02-1, 531153-02-2, 531155-02-1, and 531155-02-2, as required by paragraph (o) of AD 2023-13-10, Amendment 39-22495 (88 FR 50005, August 1, 2023) (AD 2023-13-10). AD 2023-13-10 has since been superseded by AD 2025-03-06, Amendment 39-22954 (90 FR 9595, February 14, 2025) (AD 2025-03-06). The service information referenced in AD 2025-03-06 revises ALI tasks 531153-02-1 and 531155-02-1 and deletes ALI tasks 531153-02-2 and 531155-02-2. The FAA has therefore revised paragraph (b)(2) of this AD to specify that it affects AD 2025-03-06 and revised paragraph (j) of this AD to specify that accomplishing the actions required by this AD terminates ALI tasks 531153-02-1 and 531155-02-1 as required by paragraph (n) of AD 2025-03-06.

Additionally, in the SNPRM the FAA inadvertently omitted an exception to require using the effective date of this AD in lieu of the effective date of EASA AD 2024-0217. The FAA has added paragraph (h)(4) of this AD to include this exception.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on this product. Except for minor editorial changes, and any other changes described previously, this AD is adopted as proposed in the SNPRM. None of the changes will increase the economic burden on any operator.

Material Incorporated by Reference Under 1 CFR Part 51

The FAA reviewed EASA AD 2024-0217, which specifies procedures for repetitive special detailed inspections for cracking of double joggle areas at FR16 and FR20, right-hand and left-hand sides, applicable on-condition actions (repair), and an optional modification of the double joggle area that terminates the repetitive inspections. The modification includes a rotating probe inspection of certain fastener holes for cracks, a check of the fastener holes for a minimum diameter, and applicable on-condition actions. EASA AD 2024-0217 also specifies that new SRM tasks have been developed that are acceptable for compliance with the corrective actions required by AD 2022-08-08 for airplanes affected by that AD. EASA AD 2024-0217 specifies additional requirements for airplanes that have been repaired after accomplishment of ALI task 531153-02 or 531155-02.

This material is reasonably available because the interested parties have access to it through their normal course of business or by the means identified in the ADDRESSES section.

Costs of Compliance

The FAA estimates that this AD affects 1,755 airplanes of U.S. registry. The FAA estimates the following costs to comply with this AD:

Estimated Costs for Required Actions
Labor cost | Parts cost | Cost per product | Cost on U.S. operators
Up to 55 work-hours × $85 per hour = Up to $4,675 | $0 | Up to $4,675 | Up to $8,204,625.

Estimated Costs for Optional Actions
Labor cost | Parts cost | Cost per product
60 work-hours × $85 per hour = $5,100 | $1,624 | $6,724

The FAA has received no definitive data on which to base the cost estimates for the on-condition repairs specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2022-08-08, Amendment 39-22011 (87 FR 23755, April 21, 2022); and

b. Adding the following new AD:

2025-20-15 Airbus SAS: Amendment 39-23168; Docket No. FAA-2024-1895; Project Identifier MCAI-2023-01240-T.

(a) Effective Date

This airworthiness directive (AD) is effective January 2, 2026.

(b) Affected ADs

(1) This AD replaces AD 2022-08-08, Amendment 39-22011 (87 FR 23755, April 21, 2022) (AD 2022-08-08).

(2) This AD affects AD 2025-03-06, Amendment 39-22954 (90 FR 9595, February 14, 2025) (AD 2025-03-06).

(c) Applicability

This AD applies to Airbus SAS Model airplanes specified in paragraphs (c)(1) through (4) of this AD, certificated in any category, as identified in European Union Aviation Safety Agency (EASA) AD 2024-0217, dated November 18, 2024 (EASA AD 2024-0217).

(1) Model A318-111, -112, -121, and -122 airplanes.

(2) Model A319-111, -112, -113, -114, -115, -131, -132, -133, -151N, -153N, and -171N airplanes.

(3) Model A320-211, -212, -214, -216, -231, -232, -233, -251N, -252N, -253N, -271N, -272N, and -273N airplanes.

(4) Model A321-111, -112, -131, -211, -212, -213, -231, -232, -251N, -251NX, -252N, -252NX, -253N, -253NX, -271N, -271NX, -272N, and -272NX airplanes.

(d) Subject

Air Transport Association (ATA) of America Code 53, Fuselage.

(e) Unsafe Condition

This AD was prompted by reports that, during inspections accomplished as specified in certain airworthiness limitation items (ALIs), cracks were detected in the double joggle areas at frame (FR) 16 and FR20 in the nose forward fuselage. The unsafe condition, if not addressed, could result in reduced structural integrity of the fuselage.

(f) Compliance

Comply with this AD within the compliance times specified, unless already done.

(g) Requirements

Except as specified in paragraphs (h) and (i) of this AD: Comply with all required actions and compliance times specified in, and in accordance with, EASA AD 2024-0217.

(h) Exceptions to EASA AD 2024-0217

(1) Replace paragraph (3) of EASA AD 2024-0217 with “For an airplane that has been repaired before the effective date of this AD in an affected area using Airbus-approved instructions unrelated to (not a result of a finding during an ALI inspection or the inspection SB) ALI task 531153-02-1, 531153-02-2, 531155-02-1, 531155-02-2, 531153-03-1, 531155-03-1 or the inspection SB, as applicable: Before exceeding the thresholds as specified in Table 1 (for CEO airplanes) or Table 2 (for NEO airplanes) of this AD, as applicable, contact the Manager, AIR-520, Continued Operational Safety Branch, FAA; or EASA; or Airbus SAS's EASA Design Organization Approval (DOA)s for approved instructions and accomplish those instructions accordingly. If approved by the DOA, the approval must include the DOA-authorized signature.”

(2) Where paragraph (4) of EASA AD 2024-0217 specifies to “contact Airbus for approved repair instructions and, within the compliance time specified therein, accomplish those instructions accordingly” if any cracks are detected, for this AD if any cracking is detected, the cracking must be repaired before further flight using a method approved by the Manager, AIR-520, Continued Operational Safety Branch, FAA; or EASA; or Airbus SAS's EASA Design Organization Approval (DOA). If approved by the DOA, the approval must include the DOA-authorized signature.

(3) This AD does not adopt the “Remarks” section of EASA AD 2024-0217.

(4) Where EASA AD 2024-0217 refers to its effective date, this AD requires using the effective date of this AD.

(i) No Reporting Requirement

Although the service information referenced in EASA AD 2024-0217 specifies to submit certain information to the manufacturer, this AD does not include that requirement.

(j) Terminating Action for Certain Requirements in AD 2025-03-06

Accomplishing the actions required by this AD terminates ALI tasks 531153-02-1, and 531155-02-1 as required by paragraph (n) of AD 2025-03-06 only for the airplanes identified in paragraph (c) of this AD.

(k) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, mail it to the address identified in paragraph (l) of this AD. Information may be emailed to: AMOC@faa.gov.

(i) Before using any approved AMOC, notify your appropriate principal inspector, or lacking a principal inspector, the manager of the responsible Flight Standards Office.

(ii) AMOCs approved previously for AD 2022-08-08 are approved as AMOCs for the corresponding provisions of EASA AD 2024-0217 that are required by paragraph (g) of this AD.

(2) Contacting the Manufacturer: For any requirement in this AD to obtain instructions from a manufacturer, the instructions must be accomplished using a method approved by the Manager, AIR-520, Continued Operational Safety Branch, FAA; or EASA; or Airbus SAS's EASA DOA. If approved by the DOA, the approval must include the DOA-authorized signature.

(3) Required for Compliance (RC): Except as required by paragraphs (h)(2) and (k)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Additional Information

For more information about this AD, contact Timothy Dowling, Aviation Safety Engineer, FAA, 2200 South 216th St., Des Moines, WA 98198; phone: 206-231-3667; email: Timothy.P.Dowling@faa.gov.

(m) Material Incorporated by Reference

(1) The Director of the Federal Register approved the incorporation by reference of the material listed in this paragraph under 5 U.S.C. 552(a) and 1 CFR part 51.

(2) You must use this material as applicable to do the actions required by this AD, unless this AD specifies otherwise.

(i) European Union Aviation Safety Agency (EASA) AD 2024-0217, dated November 18, 2024.

(ii) [Reserved].

(3) For EASA material identified in this AD, contact EASA, Konrad-Adenauer-Ufer 3, 50668 Cologne, Germany; telephone +49 221 8999 000; email ADs@easa.europa.eu. You may find this EASA AD on the EASA website at ad.easa.europa.eu.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on October 3, 2025.
Lona C. Saccomando,
Acting Deputy Director, Integrated Certificate Management Division, Aircraft Certification Service.

[FR Doc. 2025-21475 Filed 11-26-25; 8:45 am]

BILLING CODE 4910-13-P